ENVIRONMENTAL PROTECTION AGENCY

[FRL-8955-7]

National Environmental Justice Advisory Council; Notification of Public Teleconference and Public Comment

AGENCY: Environmental Protection Agency.

ACTION: Notification of Public Teleconference and Public Comment.

SUMMARY: Pursuant to the Federal Advisory Committee Act (FACA), Public Law 92-463, the U.S. Environmental Protection Agency (EPA) hereby provides notice that the National Environmental Justice Advisory Council (NEJAC) will host a public teleconference call on Thursday, September 24, 2009. The primary topic of discussion on the September 24 call will be EPA's national enforcement priorities. This call, as well as all NEJAC meetings, is open to the public. There will be a public comment period from 2:30 p.m. to 4 p.m. Eastern Time. Members of the public are encouraged to provide comments relevant to this topic. For additional information about registering to participate on the call or to provide public comment during the call, please see SUPPLEMENTARY INFORMATION. Due to a limited number of telephone lines, participation will be on a first-come basis.

DATES: The NEJAC teleconference call will begin promptly at 1 p.m. Eastern Time on Thursday, September 24, 2009. The call will include a discussion of EPA's national enforcement priorities and a public comment session relevant to this topic (see SUPPLEMENTARY INFORMATION). Members of the public who wish to participate on the call, or to provide public comment must pre-register by 11 a.m. Eastern Time Wednesday, September 23.

FOR FURTHER INFORMATION CONTACT: Questions concerning the teleconference call should be directed to Aaron Bell, U.S. Environmental Protection Agency, at 1200 Pennsylvania Avenue, NW., (MC2201A), Washington, DC 20460; by telephone at (202) 564-1044, via e-mail at Bell.Aaron@epa.gov; or by FAX at (202) 564-1624. Additional information about the meeting is available on the following Web site: http://www.epa.gov/compliance/environmentaljustice/nejac/meetings.html.

Advanced registration for all participants is needed due to a limited number of telephone lines. To register online, visit the Web site above. If unable to register online, requests for advance-registration forms should be sent to Ms. Joi Ross, APEX Direct Inc., by phone at (630) 372-8080, by fax at (630) 372-4394, or by e-mail at jross@alwayspursuingexcellence.com. Please provide name, organization, and telephone number for follow-up as necessary. Non-English speaking attendees wishing to arrange for a foreign language interpreter also may make appropriate arrangements using these numbers.

Correspondence concerning the meeting should be sent to Ms. Victoria Robinson, NEJAC NEJAC Designated Federal Officer, U.S. Environmental Protection Agency, at 1200 Pennsylvania Avenue, NW., (MC2201A), Washington, DC 20460; via e-mail at Robinson.Victoria@epa.gov; by telephone at (202) 564-6349; or by FAX at (202) 564-1624. Additional information about the meeting is available at the Internet Web site: http://www.epa.gov/compliance/environmentaljustice/nejac/meetings.html.

SUPPLEMENTARY INFORMATION: The Charter of the NEJAC states that the advisory committee shall provide independent advice to the Administrator on areas that may include, among other things, “advice about broad, cross-cutting issues related to environmental justice, including environment-related strategic, scientific, technological, regulatory and economic issues related to environmental justice. The teleconference call shall be used to receive comments, discuss and provide recommendations primarily regarding EPA's national enforcement priorities.

A. Public Comment: Individuals or groups making remarks during the public comment period will be limited to a total time of five minutes. Only one representative of a community, organization or group will be allowed to speak. Written comments can also be submitted for the record. The suggested format for individuals providing public comments is as follows: Name of Speaker, Name of Organization/Community, Address/Telephone/E-mail, Description of Concern and its Relationship to a Specific Policy Issue(s), and Recommendations or desired outcome. Written comments received by 11 a.m. Eastern Time Wednesday, September 23, 2009 will be included in the materials distributed to the members of the NEJAC. Written comments received after that time will be provided to the NEJAC as logistics allow. All information should be sent Ms. Joi Ross listed in the CONTACT section above.

B. Information about Services for Individuals with Disabilities: For information about access or services for individuals with disabilities, please contact Ms. Joi Ross listed in the FOR FURTHER INFORMATION CONTACT section above. To request special accommodations for a disability, please contact Ms. Hammond, at least 10 days prior to the call, to give EPA sufficient time to process your request. All requests should be sent to the address, e-mail, or fax number listed in the FOR FURTHER INFORMATION CONTACT section above.

Dated: September 9, 2009.
Victoria Robinson,
Designated Federal Officer, National Environmental Justice Advisory Council.

[FR Doc. E9-21829 Filed 9-9-09; 8:45 am]

BILLING CODE 6560-50-P